SURFACE TRANSPORTATION BOARD

[Docket Nos. AB 1320X and AB 1325X]

Growth Resources of Wellsboro Foundation—Abandonment Exemption—in Tioga County, Pa.; Wellsboro & Corning Railroad, LLC—Discontinuance of Lease and Operation Authority—in Tioga County, Pa.

On July 28, 2022, Growth Resources of Wellsboro Foundation (GROW) and Wellsboro & Corning Railroad, LLC (WCOR) (collectively, Applicants), jointly filed a verified notice of exemption under 49 CFR part 1152 subpart F—Exempt Abandonments & Discontinuances of Service for GROW to abandon, and WCOR to discontinue lease and operation authority over, an approximately 3.27-mile rail line between milepost 0.624 and milepost 3.9 in Wellsboro, Tioga County, Pa. (the Line).¹ GROW is the owner of the Line, and WCOR is the lessee of the Line. The Line traverses U.S. Postal Service Zip Code 16901.

¹ These dockets were held in abeyance to permit the Board to consider issues raised by an earlier verified notice and other filings submitted in Docket No. AB 1320X. Those issues were addressed and the abeyance lifted by decision served November 9, 2022.

Applicants certify that (1) during the past two years, neither of the Applicants has provided, or been requested to provide, local or overhead common carrier service over the Line; (2) no formal complaint filed by a user of rail service on the Line (or by a state or local government acting on behalf of a user or potential user) regarding cessation of service over the Line is pending with the Surface Transportation Board (Board) or with any U.S. District Court or has been decided in favor of complainant within the past two years; and (3) the requirements at 49 CFR 1105.11 (advance notice requirements for environmental and historic reports), 49 CFR 1105.12 (newspaper publication), and 49 CFR 1152.50(d)(1) (notice to governmental agencies) have been met. Applicants also state that GROW has prepared a combined Environmental and Historic Report that conforms to the requirements of 49 CFR 1105.7 and 1105.8.

As a condition to these exemptions, any employee adversely affected by the abandonment and discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) has been received,² the exemptions will be effective on December 15, 2022, unless stayed pending reconsideration. Petitions to stay that do not involve environmental issues,³ formal expressions of intent to file an OFA under 49 CFR 1152.27(c)(2), and interim trail use/rail banking requests under 49 CFR 1152.29 must be filed by November 25, 2022.⁴ Petitions to reopen and requests for public use conditions under 49 CFR 1152.28 must be filed by December 5, 2022.

² Persons interested in submitting an OFA must first file a formal expression of intent to file an offer, indicating the type of financial assistance they wish to provide (i.e., subsidy or purchase) and demonstrating that they are preliminarily financially responsible. See 49 CFR 1152.27(c)(2)(i).

³ The Board will grant a stay if an informed decision on environmental issues (whether raised by a party or by the Board's Office of Environmental Analysis (OEA) in its independent investigation) cannot be made before the exemptions' effective date. See Exemption of Out-of-Serv. Rail Lines, 5 I.C.C.2d 377 (1989). Any request for a stay should be filed as soon as possible so that the Board may take appropriate action before the exemptions' effective date.

⁴ Filing fees for OFAs and trail use requests can be found at 49 CFR 1002.2(f)(25) and (27), respectively.

All pleadings, referring to Docket Nos. AB 1320X and AB 1325X, must be filed with the Surface Transportation Board either via e-filing on the Board's website or in writing addressed to 395 E Street SW, Washington, DC 20423-0001. In addition, a copy of each pleading must be served on GROW's representative, Brian S. Duff, Owlett & Lewis, P.C., One Charles Street, P.O. Box 878, Wellsboro, PA 16901, and WCOR's representative, Eric M. Hocky, Clark Hill PLC, 2001 Market Street, Suite 2620, Philadelphia, PA 19103.

If the verified notice contains false or misleading information, the exemptions are void ab initio.

GROW has filed a combined environmental and historic report that addresses the potential effects, if any, of the abandonment on the environment and historic resources. OEA will issue a Draft Environmental Assessment (Draft EA) by November 16, 2022. The Draft EA will be available to interested persons on the Board's website, by writing to OEA, or by calling OEA at (202) 245-0294. Assistance for the hearing impaired is available through the Federal Relay Service at (800) 877-8339. Comments on environmental and historic preservation matters must be filed within 15 days after the Draft EA becomes available to the public.

Environmental, historic preservation, public use, or interim trail use/rail banking conditions will be imposed, where appropriate, in a subsequent decision.

Pursuant to the provisions of 49 CFR 1152.29(e)(2), GROW shall file a notice of consummation with the Board to signify that it has exercised the abandonment authority granted and fully abandoned the Line. If consummation has not been effected by GROW's filing of a notice of consummation by November 15, 2023, and there are no legal or regulatory barriers to consummation, the authority to abandon will automatically expire.

Board decisions and notices are available at www.stb.gov.

Decided: November 9, 2022.
By the Board, Mai T. Dinh, Director, Office of Proceedings.
Aretha Laws-Byrum,
Clearance Clerk.

[FR Doc. 2022-24846 Filed 11-14-22; 8:45 am]

BILLING CODE 4915-01-P